DEPARTMENT OF COMMERCE

Patent and Trademark Office

Agency Information Collection Activities; Submission to the Office of Management and Budget (OMB) for Review and Approval; Comment Request; Patent Cooperation Treaty

AGENCY: United States Patent and Trademark Office, Department of Commerce.

ACTION: Notice of information collection; request for comment.

SUMMARY: The United States Patent and Trademark Office (USPTO), as required by the Paperwork Reduction Act of 1995, invites comments on the extension and revision of an existing information collection: 0651-0021 Patent Cooperation Treaty. The purpose of this notice is to allow 60 days for public comment preceding submission of the information collection to OMB.

DATES: To ensure consideration, comments regarding this information collection must be received on or before October 3, 2022.

ADDRESSES: Interested persons are invited to submit written comments by any of the following methods. Do not submit Confidential Business Information or otherwise sensitive or protected information.

• Email: InformationCollection@uspto.gov. Include “0651-0021 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Request for additional information should be directed to Rafael Bacares, Senior Legal Advisor, Office of Patent Legal Administration, United States Patent and Trademark Office, P.O. Box 1450, Alexandria, VA 22313-1450; by telephone at 571-272-3276; or by email at Rafael.Bacares@uspto.gov with “0651-0021 comment” in the subject line. Additional information about this information collection is also available at http://www.reginfo.gov under “Information Collection Review.”

SUPPLEMENTARY INFORMATION:

I. Abstract

This collection of information is required by the Patent Cooperation Treaty (PCT), which became operational in June 1978 and is administered by the International Bureau (IB) of the World Intellectual Property Organization (WIPO) in Geneva, Switzerland. The provisions of the PCT have been implemented by the United States in part IV of title 35 of the U.S. Code (chapters 35-37) and subpart C of title 37 of the Code of Federal Regulations (37 CFR 1.401-1.499). The purpose of the PCT is to provide a standardized filing format and procedure that allows an applicant to seek protection for an invention in several countries by filing one international application in one location, in one language, and paying one initial set of fees.

The information in this collection is used by the public to submit a patent application under the PCT and by the United States Patent and Trademark Office (USPTO), to fulfill its obligation to process, search, and examine the application as directed by the treaty. The USPTO acts as the Receiving Office (RO/US) for international applications filed by residents and nationals of the United States. These applicants send most of their correspondence directly to the USPTO, but they may also file certain documents directly with the IB. The USPTO serves as an International Searching Authority (ISA) to perform searches and issue international search reports (ISR) and the written opinions of international applications. The USPTO also issues international preliminary reports on patentability (IPRP Chapter II) when acting as an International Preliminary Examining Authority (IPEA).

II. Method of Collection

The survey may be submitted electronically or in paper form via postal mail.

III. Data

OMB Control Number: 0651-0021.

Forms: (IB = International Bureau; IPEA = International Prelimary Examination; RO = Receiving Office; SB = Specimen Book).

• PCT/IB/372 (Notice of Withdrawal)

• PCT/IPEA/401 (Demand and Fee Calculation Sheet)

• PCT/RO/101 (Request and Fee Calculation Sheet)

• PCT/RO/134 (Indications Relating to Deposited Microorganism or Other Biological Material)

• PTO-1382 (Transmittal Letter to the United States Receiving Office (RO/US))

• PTO-1390 (Transmittal Letter to the United States Designated/Elected Office (DO/E.O./US) Concerning a Filing Under 35 U.S.C. 371)

• PTO/SB/64/PCT (Petition for Revival of an International Application for Patent Designating the U.S. Abandoned Unintentionally Under 37 CFR 1.137(b))

Type of Review: Extension and revision of a currently approved information collection.

Affected Public: Private sector; individuals or households.

Respondent's Obligation: Required to obtain or retain benefits.

Estimated Number of Annual Respondents: 420,816 respondents.

Estimated Number of Annual Responses: 420,816 responses.

Estimated Time per Response: The USPTO estimates that the responses in this information collection will take the public approximately between 15 minutes (0.25 hours) and 4 hours to complete. This includes the time to gather the necessary information, create the document, and submit the completed request to the USPTO.

Estimated Total Annual Respondent Burden Hours: 358,269 hours.

Estimated Total Annual Respondent Hourly Cost Burden: $155,847,015.

¹ 2021 Report of the Economic Survey, published by the Committee on Economics of Legal Practice of the American Intellectual Property Law Association (AIPLA); pg. F-27. The USPTO uses the average billing rate for intellectual property attorneys in private firms which is $435 per hour. (https://www.aipla.org/home/news-publications/economic-survey.)

Table 1—Total Burden Hours and Hourly Costs to Private Sector Respondents
Item No. | Item | Estimated annual respondents | Responses per respondent | Estimated annual responses | Estimated time for response (hour) | Estimated burden (hour/year) | Rate ¹ | Estimated annual total cost
|  | (a) | (b) | (a) × (b) = (c) | (d) | (c) × (d) = (e) | (f) | (e) × (f) = (g)
1 | Request and Fee Calculation Sheet (Annex and Notes) | 56,768 | 1 | 56,768 | 1 | 56,768 | $435 | $24,694,080
2 | Description/claims/drawings/abstracts | 56,768 | 1 | 56,768 | 3 | 170,304 | 435 | 74,082,240
3 | Application Data Sheet (35 U.S.C. 371 applications) | 105,124 | 1 | 105,124 | 0.38 (23 mins) | 39,947 | 435 | 17,376,945
4 | Transmittal Letter to the United States Receiving Office (RO/US) | 16,163 | 1 | 16,163 | 0.25 (15 mins) | 4,041 | 435 | 1,757,835
5 | Transmittal Letter to the United States Designated/Elected Office (DO/EO/US) Concerning a Submission Under 35 U.S.C. 371 | 89,616 | 1 | 89,616 | 0.25 (15 mins) | 22,404 | 435 | 9,745,740
6 | PCT/Model of Power of Attorney | 14,022 | 1 | 14,022 | 0.25 (15 mins) | 3,506 | 435 | 1,525,110
7 | PCT/Model of General Power of Attorney | 1,400 | 1 | 1,400 | 0.25 (15 mins) | 350 | 435 | 152,250
8 | Indications Relating to a Deposited Microorganism | 1 | 1 | 1 | 0.25 (15 mins) | 1 | 435 | 435
9 | Response to invitation to correct defects | 16,651 | 1 | 16,651 | 2 | 33,302 | 435 | 14,486,370
10 | Request for rectification of obvious errors | 950 | 1 | 950 | 0.50 (30 mins) | 475 | 435 | 206,625
11 | Demand and Fee Calculation Sheet (Annex and Notes) | 198 | 1 | 198 | 1 | 198 | 435 | 86,130
12 | Amendments (Article 34) | 141 | 1 | 141 | 1 | 141 | 435 | 61,335
13 | Fee Authorization | 51,091 | 1 | 51,091 | 0.25 (15 mins) | 12,773 | 435 | 5,556,255
14 | Requests to transmit copies of international application | 601 | 1 | 601 | 0.25 (15 mins) | 150 | 435 | 65,250
15 | Withdrawal of international application | 59 | 1 | 59 | 0.25 (15 mins) | 15 | 435 | 6,525
16 | English Translations after thirty months from priority date | 2,043 | 1 | 2,043 | 2 | 4,086 | 435 | 1,777,410
17 | Petition for Revival of an International Application for Patent Designating the U.S. Abandoned Unintentionally Under 37 CFR 1.137(a) | 668 | 1 | 668 | 1 | 668 | 435 | 290,580
18 | Petitions to the Commissioner for international applications | 28 | 1 | 28 | 4 | 112 | 435 | 48,720
19 | Petitions to the Commissioner in national stage examination | 207 | 1 | 207 | 4 | 828 | 435 | 360,180
20 | Acceptance of an unintentionally delayed claim for priority (37 CFR 1.78(a)(3)) | 122 | 1 | 122 | 2 | 244 | 435 | 106,140
21 | Request for the restoration of the right of priority | 124 | 1 | 124 | 3 | 372 | 435 | 161,820
| Totals | 412,745 |  | 412,745 |  | 350,685 |  | 152,547,975

Table 2—Total Burden Hours and Hourly Costs to Individual and Household Respondents
Item No. | Item | Estimated annual respondents | Responses per respondent | Estimated annual responses | Estimated time for response (hour) | Estimated burden (hour/year) | Rate ² | Estimated annual total cost
|  | (a) | (b) | (a) × (b) = (c) | (d) | (c) × (d) = (e) | (f) | (e) × (f) = (g)
1 | Request and Fee Calculation Sheet (Annex and Notes) | 1,216 | 1 | 1,216 | 1 | 1,216 | $435 | $528,960
2 | Description/claims/drawings/abstracts | 1,216 | 1 | 1,216 | 3 | 3,648 | 435 | 1,586,880
3 | Application Data Sheet (35 U.S.C. 371 applications) | 1,703 | 1 | 1,703 | 0.38 (23 mins) | 647 | 435 | 281,445
4 | Transmittal Letter to the United States Receiving Office (RO/US) | 344 | 1 | 344 | 0.25 (15 mins) | 86 | 435 | 37,410
5 | Transmittal Letter to the United States Designated/Elected Office (DO/EO/US) Concerning a Submission Under 35 U.S.C. 371 | 1,248 | 1 | 1,248 | 0.25 (15 mins) | 312 | 435 | 135,720
6 | PCT/Model of Power of Attorney | 471 | 1 | 471 | 0.25 (15 mins) | 118 | 435 | 51,330
7 | PCT/Model of General Power of Attorney | 47 | 1 | 47 | 0.25 (15 mins) | 12 | 435 | 5,220
8 | Indications Relating to a Deposited Microorganism | 1 | 1 | 1 | 0.25 (15 mins) | 1 | 435 | 435
9 | Response to invitation to correct defects | 466 | 1 | 466 | 2 | 932 | 435 | 405,420
10 | Request for rectification of obvious errors | 55 | 1 | 55 | 0.50 (30 mins) | 28 | 435 | 12,180
11 | Demand and Fee Calculation Sheet (Annex and Notes) | 21 | 1 | 21 | 1 | 21 | 435 | 9,135
12 | Amendments (Article 34) | 21 | 1 | 21 | 1 | 21 | 435 | 9,135
13 | Fee Authorization | 1,094 | 1 | 1,094 | 0.25 (15 mins) | 274 | 435 | 119,190
14 | Requests to transmit copies of international application | 30 | 1 | 30 | 0.25 (15 mins) | 8 | 435 | 3,480
15 | Withdrawal of international application | 2 | 1 | 2 | 0.25 (15 mins) | 1 | 435 | 435
16 | English Translations after thirty months from priority date | 47 | 1 | 47 | 2 | 94 | 435 | 40,890
17 | Petition for Revival of an International Application for Patent Designating the U.S. Abandoned Unintentionally Under 37 CFR 1.137(a) | 50 | 1 | 50 | 1 | 50 | 435 | 21,750
18 | Petitions to the Commissioner for international applications | 4 | 1 | 4 | 4 | 16 | 435 | 6,960
19 | Petitions to the Commissioner in national stage examination | 6 | 1 | 6 | 4 | 24 | 435 | 10,440
20 | Acceptance of an unintentionally delayed claim for priority (37 CFR 1.78(a)(3)) | 12 | 1 | 12 | 2 | 24 | 435 | 10,440
21 | Request for the restoration of the right of priority | 17 | 1 | 17 | 3 | 51 | 435 | 22,185
| Total | 8,071 |  | 8,071 |  | 7,584 |  | 3,299,040

Estimated Total Annual Respondent Non-hourly Cost Burden: $367,468,926.

² Ibid.

There are no capital start-up, maintenance costs, or recordkeeping costs associated with this information collection. However, USPTO estimates that the total annual (non-hour) cost burden for this information collection, in the form of translations, drawings, filing fees, and postage is $367,468,926.

Translations

Applicants entering the national stage in the U.S. are required to file an English translation of the international application if the international application was filed in another language and was not published under PCT Article 21(2) in English. A processing fee is required for accepting an English translation after 30 months from the priority date. This requirement may carry additional costs for the applicant to contract for a translation of the documents in questions. The USPTO believes that the average length of the document to be translated is 10 pages and that it will cost approximately $140 per page for the translation, for an average translation cost of $1,400 per document.

The USPTO estimates that it will receive approximately 2,475 English translations after 30 months from the priority date annually, for a total of $3,465,000 per year for English translations of non-English language documents for PCT applications.

Drawings

Applicants may also incur costs for drawings that are submitted as part of PCT applications. Some applicants may produce their own drawings, while others may contract out the work to various patent illustration firms. For the purpose of estimating burden for this collection, the USPTO will consider all applicants to have their drawings prepared by these firms.

Estimates for the drawings can vary greatly, depending on the number of figures that need to be produced, the total number of pages for the drawings, and the complexity of the drawings. Because there are many variables involved, the USPTO is using a estimate of $1,150 based on experience with domestic filings.

The USPTO expects that it will receive 55,177 sets of drawings with a total of $63,453,550 per year.

Filing Fees

There are fees associated with submitting the information in this collection, for a total of $300,472,525 per year, as outlined in Table 3 below.

Table 3—Filing Fees/Non-Hour Cost to Respondents
Item No. | Item | Estimated annual responses | Filing fee ($) | Non-hourly cost burden
|  | (a) | (b) | (a) × (b) = (c)
1 | Request and Fee Calculation Sheet (Annex and Notes—International Filing Fee) | 551 | $1,437 | $791,787
1 | Request and Fee Calculation Sheet (Annex and Notes—International Filing Fee electronically filed without ePCT or PCT-EASY zip file) | 18,603 | 1,329 | 24,723,387
1 | Request and Fee Calculation Sheet (Annex and Notes—International Filing Fee electronically filed with ePCT or PCT-EASY zip file) | 39,782 | 1,221 | 48,573,822
2 | [PCT National Stage] Claims—extra independent (over three) (Large entity) | 8,710 | 480 | 4,180,800
2 | [PCT National Stage] Claims—extra independent (over three) (Small entity) | 3,151 | 240 | 756,240
2 | [PCT National Stage] Claims—extra independent (over three) (Micro entity) | 120 | 120 | 14,400
2 | [PCT National Stage] Claims—extra total (over 20) (Large entity) | 12,466 | 100 | 1,246,600
2 | [PCT National Stage] Claims—extra total (over 20) (Small entity) | 7,462 | 50 | 373,100
2 | [PCT National Stage] Claims—extra total (over 20) (Micro entity) | 263 | 25 | 6,575
2 | [PCT National Stage] Claim—multiple dependent (Large entity) | 617 | 860 | 530,620
2 | [PCT National Stage] Claim—multiple dependent (Small entity) | 431 | 430 | 185,330
2 | [PCT National Stage] Claim—multiple dependent (Micro entity) | 68 | 215 | 14,620
3 | National Stage Application Size Fee—for each additional 50 sheets that exceed 100 sheets (Large entity) | 4,106 | 420 | 1,724,520
3 | National Stage Application Size Fee—for each additional 50 sheets that exceed 100 sheets (Small entity) | 2,428 | 210 | 509,880
3 | National Stage Application Size Fee—for each additional 50 sheets that exceed 100 sheets (Micro entity) | 36 | 105 | 3,780
4 | Transmittal fee (Large entity) | 66,305 | 260 | 17,239,300
4 | Transmittal fee (Small entity) | 23,311 | 130 | 3,030,430
4 | Transmittal fee (Micro entity) | 1,248 | 65 | 81,120
11 | Demand and Fee Calculation Sheet (Annex and Notes) | 219 | 216 | 47,304
14 | Transmitting application to Intl. Bureau to act as receiving office (Large entity) | 392 | 260 | 101,920
14 | Transmitting application to Intl. Bureau to act as receiving office (Small entity) | 272 | 130 | 35,360
14 | Transmitting application to Intl. Bureau to act as receiving office (Micro entity) | 30 | 65 | 1,950
16 | English translation after thirty months from priority date (Large entity) | 1,078 | 140 | 150,920
16 | English translation after thirty months from priority date (Small entity) | 965 | 70 | 67,550
16 | English translation after thirty months from priority date (Micro entity) | 47 | 35 | 1,645
18 | Search fee—regardless of whether there is a corresponding application (see 35 U.S.C. 361(d) and PCT Rule 16) (Large entity) | 7,943 | 2,180 | 17,315,740
18 | Search fee—regardless of whether there is a corresponding application (see 35 U.S.C. 361(d) and PCT Rule 16) (Small entity) | 15,311 | 1,090 | 16,688,990
18 | Search fee—regardless of whether there is a corresponding application (see 35 U.S.C. 361(d) and PCT Rule 16) (Micro entity) | 1,179 | 545 | 642,555
18 | Supplemental search fee when required, per additional invention (Large entity) | 267 | 2,180 | 582,060
18 | Supplemental search fee when required, per additional invention (Small entity) | 520 | 1,090 | 566,800
18 | Supplemental search fee when required, per additional invention (Micro entity) | 44 | 540 | 23,760
19 | Basic National Stage Fee (Large entity) | 78,180 | 320 | 25,017,600
19 | Basic National Stage Fee (Small entity) | 27,641 | 160 | 4,422,560
19 | Basic National Stage Fee (Micro entity) | 1,757 | 80 | 140,560
19 | National Stage Search Fee—U.S. was the ISA or IPEA and all claims satisfy PCT Article 33(1)-(4) | 662 | 0 | 0
19 | National Stage Search Fee -U.S. was the ISA (Large entity) | 2,817 | 140 | 394,380
19 | National Stage Search Fee—U.S. was the ISA (Small entity) | 6,262 | 70 | 438,340
19 | National Stage Search Fee—U.S. was the ISA (Micro entity) | 262 | 35 | 9,170
19 | National Stage Search Fee—search report prepared and provided to USPTO (Large entity) | 72,877 | 540 | 39,353,580
19 | National Stage Search Fee—search report prepared and provided to USPTO (Small entity) | 20,560 | 270 | 5,551,200
19 | National Stage Search Fee—search report prepared and provided to USPTO (Micro entity) | 1,325 | 135 | 178,875
19 | National Stage Search Fee—all other situations (Large entity) | 5,626 | 700 | 3,938,200
19 | National Stage Search Fee—all other situations (Small entity) | 2,804 | 350 | 981,400
19 | National Stage Search Fee—all other situations (Micro entity) | 385 | 175 | 67,375
19 | National Stage Examination Fee—all other situations (Large entity) | 77,908 | 800 | 62,326,400
19 | National Stage Examination Fee—all other situations (Small entity) | 27,228 | 400 | 10,891,200
19 | National Stage Examination Fee—all other situations (Micro entity) | 1,704 | 200 | 340,800
19 | Preliminary examination fee—U.S. was the ISA (Large entity) | 260 | 640 | 166,400
19 | Preliminary examination fee—U.S. was the ISA (Small entity) | 690 | 320 | 220,800
19 | Preliminary examination fee—U.S. was the ISA (Micro entity) | 85 | 160 | 13,600
19 | Preliminary examination fee—U.S. was not the ISA (Large entity) | 145 | 800 | 116,000
19 | Preliminary examination fee—U.S. was not the ISA (Small entity) | 93 | 400 | 37,200
19 | Preliminary examination fee—U.S. was not the ISA (Micro entity) | 1 | 200 | 200
19 | Supplemental examination fee per additional invention (Large entity) | 7 | 640 | 4,480
19 | Supplemental examination fee per additional invention (Small entity) | 21 | 320 | 6,720
19 | Supplemental examination fee per additional invention (Micro entity) | 1 | 160 | 160
19 | Search fee, examination fee or oath of declaration after thirty months from priority date (Large entity) | 25,628 | 160 | 4,100,480
19 | Search fee, examination fee or oath of declaration after thirty months from priority date (Small entity) | 11,903 | 80 | 952,240
19 | Search fee, examination fee or oath of declaration after thirty months from priority date (Micro entity) | 306 | 40 | 12,240
20 | Acceptance of an unintentionally delayed claim for priority, or for filing a request for the restoration of the right of priority | 275 | 2,100 | 577,500
| Totals | 585,338 |  | 300,472,525

Postage Costs

Although the USPTO prefers that the items in this information collection be submitted electronically, responses may be submitted by mail through the United States Postal Service (USPS). The USPTO estimates that 2% of the 420,816 items will be submitted in the mail resulting in 8,416 mailed items. The USPTO estimates that the average postage cost for a mailed submission, using a Priority Mail 2-day flat rate legal envelope, will be $9.25. Therefore, the USPTO estimates the total mailing costs for this information collection at $77,848.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Acting Information Collections Officer, Office of the Chief Adminstrative Officer, United States Patent and Trademark Office.

[FR Doc. 2022-16530 Filed 8-1-22; 8:45 am]

BILLING CODE 3510-16-P